DEPARTMENT OF HEALTH AND HUMAN SERVICES

Centers for Disease Control and Prevention

[60Day-05-0134]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-371-5976 or send comments to Seleda Perryman, CDC Assistant Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Foreign Quarantine Regulations, OMB No. 0920-0134—Revision—National Center for Infectious Diseases (NCID), Centers for Disease Control and Prevention (CDC). Section 361 of the Public Health Service (PHS) Act (42 U.S.C. 264) authorizes the Secretary of Health and Human Services (DHHS) to make and enforce regulations necessary to prevent the introduction, transmission, or spread of communicable diseases from foreign countries into the United States.

Legislation and the existing regulations governing foreign quarantine activities (42 CFR part 71) authorize quarantine officers and other personnel to inspect and undertake necessary control measures with respect to conveyances, persons, and shipments of animals and etiologic agents entering the United States from foreign ports in order to protect the public health.

Under foreign quarantine regulations, the master of a ship or captain of an airplane entering the United States from a foreign port is required by public health law to report certain illnesses among passengers (42 CFR 71.21)(b). In this revision, CDC proposes adding two additional reporting requirements. First, in addition to the aforementioned list of required illnesses to be reported, CDC is asking that reports be made for the following conditions, which may indicate a reportable illness: (1) Hemorrhagic fever syndrome (persistent fever accompanied by abnormal bleeding from any site); or (2) acute respiratory syndrome (severe cough or severe respiratory disease of less than 3 weeks in duration); or (3) acute onset of fever and severe headache, accompanied by stiff neck or change in level of consciousness. CDC has the authority to collect personal health information to protect the health of the public under the authority of section 301 of the Public Health Service Act (42 U.S.C.).

Second, CDC proposes adding the Passenger Locator Form currently under OMB control number 0920-0664 to OMB control number 0920-0134. The Passenger Locator Form is used to collect reliable information that assists quarantine officers in locating in a timely manner those passengers and crew who are exposed to communicable diseases of public health importance while traveling on a conveyance. Additional burden hours for the voluntary reporting of additional certain illnesses and the Passenger Locator Form are reflected in the burden hour table below.

DHHS delegates authority to CDC to conduct quarantine control measures. Currently, with the exception of rodent inspections and the cruise ship sanitation program, inspections are performed only on those vessels and aircraft which report illness prior to arrival or when illness is discovered upon arrival. Other inspection agencies assist quarantine officers in public health screening of persons, pets, and other importations of public health significance and make referrals to PHS when indicated. These practices and procedures assure protection against the introduction and spread of communicable diseases into the United States with a minimum of recordkeeping and reporting as well as a minimum of interference with trade and travel.

Respondents include airplane pilots, ships' captains, importers, and travelers. The nature of the quarantine response would dictate which forms are completed by whom. There is no cost to respondents except for their time.

Annualized Burden Table:

Respondents | Number of respondents | Number of responses per respondent | Average burden per response (in hrs.) | Total burden hours
Radio reporting of death/illness | 1700 | 1 | 2/60 | 57
Report by persons held in isolation/Surveillance | 11 | 1 | 30/60 | 6
Report of death or Illness on carrier during stay in port | 5 | 1 | 30/60 | 2.50
Passenger locator form:
—Used in an outbreak of public health significance | 2,700,000 | 1 | 5/60 | 225,000
—Used for reportingof an ill passengers | 800 | 1 | 5/60 | 67
Requirements for admission of dogs and cats:
Sec. 72.51(1) | 5 | 1 | 3/60 | .25
Sec. 72.51(2) | 1,200 | 1 | 15/60 | 300
Application for permits to import turtles | 10 | 1 | 30/60 | 5
Requirements for registered importers of nonhuman primates:
Sec. 71.53(1) |  | 1 | 10/60 | 7
Sec. 71.53(2) |  | 4 | 30/60 | 60
Total |  |  |  | 225,505

Dated: February 25, 2005.
Betsey Dunaway,
Acting Reports Clearance Officer, Office of the Chief Science Officer, Centers for Disease Control and Prevention.

[FR Doc. 05-4679 Filed 3-9-05; 8:45 am]

BILLING CODE 4163-18-P